FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than June 29, 2006.

A. Federal Reserve Bank of New York (Anne McEwen, Financial Specialist) 33 Liberty Street, New York, New York 10045-0001:

1. Westfalisch-Lippischer Sparkassen-und Giroverband, Munster, Germany and Rheinischer Sparkassen-und Giroverband, Dusseldorf, Germany; to retain voting shares of WestLB Securities Inc., New York, New York; WestLB Mellon Asset Management (USA), LLC, Chicago, Illinois; S.A.L.E. (USA) Corporation, Reno, Nevada; NY Credit Real Estate GP LLC, New York, New York; New York Credit Real Estate Fund, L.P., New York, New York; New York Credit Advisors LLC, New York, New York; BOA Lending L.L.P., Las Vegas, Nevada; HSH N Financial Securities LLC, New York, New York; and WestAM Asset Management (US) LLC, Houston, Texas, and thereby engage in extending credit and servicing loans, pursuant to section 225.28(b)(1); asset-management, servicing and collection activities, pursuant to section 225.28(b)(2)(vi); leasing personal or real property, pursuant to section 225.28(b)(3); investment advisory services, pursuant to section 225.28(b)(6)(i); financial and investment advisory activities, pursuant to section 225.28(b)(6)(iii); securities brokerage services, pursuant to section 225.28(b)(7)(i); riskless principal transactions, pursuant to section 22.28(b)(7)(ii); private placement services, pursuant to section 225.28(b)(7)(iii); and other transactional services, pursuant to section 225.28(b)(7)(v), all of Regulation Y.

Board of Governors of the Federal Reserve System, June 9, 2006.
Jennifer J. Johnson,
Secretary of the Board.

[FR Doc. E6-9284 Filed 6-13-06; 8:45 am]

BILLING CODE 6210-01-S